FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 29, 2018.

A. Federal Reserve Bank of Kansas City (Dennis Denney, Assistant Vice President) 1 Memorial Drive, Kansas City, Missouri 64198-0001:

1. Darrin Church, Farmington, New Mexico; to acquire voting shares of the Employee Stock Bonus Trust for the Employees of Citizens Bank and the Citizens Bank Employees Stock Ownership and Retirement Savings Plan (ESOP), Farmington, New Mexico, by virtue of his authority to direct the trustee of ESOP, and thereby indirectly acquire shares of Citizens Bankshares, Inc., and thereby acquire shares of The Citizens Bank, both of Farmington, New Mexico.

2. John D. Russell, Fullerton, Nebraska; to retain voting shares of First National Holding Company, Inc., Fullerton, Nebraska, and thereby retain shares of First Bank and Trust of Fullerton, Fullerton, Nebraska. In addition, John D. Russell, Timothy Russell and Ann Russell, both of Hastings, Nebraska, Jamie McQuillan, Menomonee Falls, Wisconsin, Riley Russell, Lincoln, Nebraska, and Krista Heiden, Hickman, Nebraska, have applied to become members of the Russell Family Group, which owns voting shares of First National Holding Company, Inc., and thereby indirectly owns shares of First Bank and Trust of Fullerton.

3. George Wesley Boyd and Karen Boyd Pou, both of Dallas, Texas, and George Mitchell Boyd, Jr., Austin, Texas; to acquire voting shares of Republic Trinidad Corporation, Houston Texas, and thereby indirectly acquire shares of First National Bank in Trinidad, Trinidad, Colorado. In connection with the notice, notificants also have applied to become members of the Boyd Family Group, which owns voting shares of Republic Trinidad Corporation, and thereby indirectly owns shares of First National Bank in Trinidad, Trinidad, Colorado.

Board of Governors of the Federal Reserve System, August 9, 2018.
Yao-Chin Chao,
Assistant Secretary of the Board.

[FR Doc. 2018-17403 Filed 8-13-18; 8:45 am]

BILLING CODE P